NATIONAL AERONAUTICS AND SPACE ADMINISTRATION

[Notice (02-147)]

National Environmental Policy Act; Mars Exploration Rover-2003 Project

AGENCY: National Aeronautics and Space Administration (NASA).

ACTION: Notice of availability of final environmental impact statement (FEIS) for implementation of the Mars Exploration Rover (MER)-2003 Project.

SUMMARY: Under the National Environmental Policy Act of 1969 (NEPA), as amended (42 U.S.C. 4321 et seq.), the Council on Environmental Quality (CEQ) Regulations for Implementing the Procedural Provisions of NEPA (40 CFR parts 1500-1508), and NASA policy and procedures (14 CFR part 1216 subpart 1216.3), NASA has prepared a FEIS for the MER-2003 project. In the FEIS, NASA addresses the potential environmental impacts associated with continuing the preparations for and implementing the MER-2003 project. The purpose of the MER-2003 project is to explore the surface of Mars.

The proposed action and preferred alternative for implementing the MER-2003 project includes two missions, each involving identical rover spacecraft. NASA proposes to launch the first mission from Cape Canaveral Air Force Station (CCAFS), Florida, in May or June 2003, on a Delta II 7925, and the second mission from CCAFS in June or July 2003, on a Delta II 7925 Heavy. Each rover would include two small radioactive sources for instrument calibration and would use up to 11 radioisotope heater units (RHU) for thermal control.

NASA published a notice of availability (NOA) of the draft EIS (DEIS) for the MER-2003 Project (67 FR 48490, July 24, 2002) and mailed copies to 79 Federal, State and local agencies, organizations, and individuals. In addition, NASA made the DEIS available in electronic format on its website. The U.S. Environmental Protection Agency (EPA) subsequently published its NOA (67 FR 48894, July 26, 2002). Comments received during the 45-day comment period ending September 9, 2002, have been addressed in the FEIS.

DATES: NASA will take no final action on the proposed MER-2003 missions on or before January 9, 2003, or 30 days from the date of publication in the Federal Register of the EPA notice of availability of the MER-2003 project FEIS, whichever is later.

ADDRESSES: See SUPPLEMENTARY INFORMATION section for addresses for reviewing the FEIS and obtaining copies of the record of decision.

FOR FURTHER INFORMATION CONTACT: David Lavery, Office of Space Science, Mail Code SM, NASA Headquarters, Washington, DC 20546-0001, telephone 202-358-4800, or electronic mail marsnepa@hq.nasa.gov.

SUPPLEMENTARY INFORMATION: The proposed MER-2003 project is part of NASA's continuing efforts to: (1) Understand the atmosphere, surface, and interior of Mars; (2) determine if life exists or has ever existed on Mars; (3) and develop an understanding of Mars in support of possible future human exploration. The aim of the MER-2003 project is to determine the aqueous, climactic, and geologic history of two high priority sites on Mars. In the FEIS, NASA considered and analyzed the environmental impacts of the proposed action and the no action alternative. The proposed action, which is the preferred alternative, consists of continuing preparations for and implementing the MER-2003 project. The proposed action would include two missions that would continue intensive studies of two Martian sites via identical rover spacecraft. Operation of the rovers and their science instruments would also benefit planning and design of future missions by: (1) Demonstrating the capabilities and technologies for long-range reconnaissance by mobile science platforms; (2) demonstrating complex science operations through the simultaneous use of multiple mobile laboratories; and (3) validating the standards, protocols, and capabilities of the international Mars communications infrastructure.

The first mission (MER-A) would be launched on a Delta II 7925 from CCAFS in May or June 2003. The second mission (MER-B) would be launched on a Delta II 7925 Heavy from CCAFS in June or July 2003. Opportunities to visit Mars occur every 26 months, but not all opportunities are the same from the point of view of launch vehicle capability. The 2003 launch opportunity represents the most favorable opportunity for a surface mission to Mars in decades. Programmatic issues (e.g., changes in NASA priorities or unforeseen circumstances), however, could necessitate modification to the mission objectives and timing. Such modifications could result in the need to launch one mission in 2003 and a second mission at a later date, or not at all. Depending upon the significance of any new information and whether any changes in the project are substantial, NASA will consider preparing additional environmental documentation in accordance with CEQ and NASA procedures.

For the MER-2003 missions, the potentially affected environment for normal launches includes the area at and in the vicinity of the launch site, CCAFS in Florida. The environmental impacts of normal launches of the two missions for the proposed action would be associated principally with the exhaust emissions from each of the Delta II launch vehicles. These effects would include: (1) Short-term impacts on air quality within the exhaust cloud and near the launch pads and (2) the potential for acidic deposition on the vegetation and surface water bodies at and near the launch complex, particularly if rain occurs shortly after launch.

Potential launch accidents could result in the release of some of the radioactive material on board the rover. Each rover would employ two instruments that use small quantities of cobalt-57 (not exceeding 350 millicuries) and curium-244 (not exceeding 50 millicuries) as instrument sources. Each rover would have up to 11 RHUs that use plutonium dioxide to provide heat to the electronics and batteries on board the rover. The radioisotope inventory of 11 RHUs would total approximately 365 curies of plutonium.

The U.S. Department of Energy (DOE), in cooperation with NASA, has performed a risk assessment of potential accidents for the MER-2003 project. This assessment used a methodology refined through applications to the Galileo, Mars Pathfinder, and Cassini missions and incorporates results of safety tests on the RHUs and an evaluation of the January 17, 1997, Delta II accident at CCAFS. DOE's risk assessment for this project indicates that in the event of a launch accident the expected impacts of released radioactive material at and in the vicinity of the launch area, and on a global basis, would be small.

FEIS Review Copies

The FEIS may be reviewed during normal business hours at the following locations:

(a) NASA Headquarters, Library, Room 1J20, 300 E Street, SW., Washington, DC 20546.

(b) Spaceport U.S.A., Room 2001, John F. Kennedy Space Center, FL 32899. Please call Lisa Fowler at 321-867-2201 so that arrangements can be made.

(c) Jet Propulsion Laboratory, Visitors Lobby, Building 249, 4800 Oak Grove Drive, Pasadena, CA 91109 (818-354-5179).

In addition, the FEIS may be examined at the following NASA Centers by contacting the Freedom of Information Act Office at the respective Center:

(d) NASA, Ames Research Center, Moffett Field, CA 94035 (650-604-1181).

(e) NASA, Dryden Flight Research Center, P.O. Box 273, Edwards, CA 93523 (661-276-2704).

(f) NASA, Glenn Research Center at Lewis Field, 21000 Brookpark Road, Cleveland, OH 44135 (216-433-2755).

(g) NASA, Goddard Space Flight Center, Greenbelt Road, Greenbelt, MD 20771 (301-286-0730).

(h) NASA, Johnson Space Center, Houston, TX 77058 (281-483-8612).

(i) NASA, Langley Research Center, Hampton, VA 23681 (757-864-2497).

(j) NASA, Marshall Space Flight Center, Huntsville, AL 35812 (256-544-2030).

(k) NASA, Stennis Space Center, MS 39529 (228-688-2164).

Limited hard copies of the FEIS are available, on a first request basis, by contacting David Lavery, Office of Space Science, Mail Code SM, NASA Headquarters, Washington, DC 20546-0001, telephone 202-358-4800, or electronic mail marsnepa@hq.nasa.gov.

Electronic Access

The FEIS is also available in Acrobat® format at http://spacescience.nasa.gov/admin/pubs/mereis/index.htm.

Copies of the Record of Decision

Copies of the record of decision, when issued, may be obtained upon written request to David Lavery, Office of Space Science, Mail Code SM, NASA Headquarters, Washington, DC 20546-0001.

Dated: December 5, 2002.
Jeffrey E. Sutton,
Assistant Administrator for Management Systems.

[FR Doc. 02-31127 Filed 12-9-02; 8:45 am]

BILLING CODE 7510-01-P